DEPARTMENT OF LABOR

Employment and Training Administration

Notice of a Change in Status of an Extended Benefit (EB) Period for Massachusetts, New Mexico, and New York

AGENCY: Employment and Training Administration, Labor.

ACTION: Notice.

SUMMARY: This notice announces a change in benefit period eligibility under the EB program for Massachusetts, New Mexico, and New York.

The following changes have occurred since the publication of the last notice regarding the States' EB status:

• Based on data released by the Bureau of Labor Statistics on June 17, the three month average, seasonally adjusted total unemployment rates for Massachusetts, New Mexico, and New York fell below the 8.0% threshold necessary for a high unemployment period (HUP) in the EB program. As a result, the payable period for Massachusetts and New Mexico in HUP concluded July 9, 2011, and the payable period for New York in HUP concluded July 10, 2011. Eligibility for claimants has been reduced from a maximum potential entitlement of 20 weeks to a maximum potential entitlement of 13 weeks in the EB program.

The trigger notice covering state eligibility for the EB program can be found at: http://ows.doleta.gov/unemploy/claims_arch.asp.

Information for Claimants

The duration of benefits payable in the EB program, and the terms and conditions on which they are payable, are governed by the Federal-State Extended Unemployment Compensation Act of 1970, as amended, and the operating instructions issued to the states by the U.S. Department of Labor. In the case of a state triggering “off” an HUP period, the State Workforce Agency will furnish a written notice of potential entitlement to each individual who is potentially affected (20 CFR 615.13(c)(4)).

Persons who have questions about their entitlement to EB, or who wish to inquire about their rights under the program, should contact their State Workforce Agency.

FOR FURTHER INFORMATION CONTACT: Scott Gibbons, U.S. Department of Labor, Employment and Training Administration, Office of Unemployment Insurance, 200 Constitution Avenue, NW., Frances Perkins Bldg., Room S-4231, Washington, DC 20210, telephone number (202) 693-3008 (this is not a toll-free number) or by e-mail: gibbons.scott@dol.gov.

Signed in Washington, DC, this 19th day of July, 2011.
Jane Oates,
Assistant Secretary, Employment and Training Administration.

[FR Doc. 2011-18739 Filed 7-25-11; 8:45 am]

BILLING CODE 4510-FW-P